DEPARTMENT OF HEALTH AND HUMAN SERVICES

National Institutes of Health

National Institute of General Medical Sciences; Amended Notice of Meeting

Notice is hereby given of a change in the meeting of the National Advisory General Medical Sciences Council, May 16, 2019, 09:00 a.m. to May 17, 2019, 12:00 p.m., National Institutes of Health, Natcher Building, 45 Center Drive, Conference Rooms E1 & E2, Bethesda, MD, 20892 which was published in the Federal Register on February 14, 2019, 84 FR 4087.

The meeting notice is amended to change the Contact Person from: Ann A. Hagan, Ph.D., Associate Director for Extramural Activities; NIGMS, NIH, DHHS; 45 Center Drive, Room; 2AN24H, MSC6200; Bethesda, MD 20892-6200; (301) 594-4499; hagana@nigms.nih.gov.17 to Contact Person: Erica Brown, Ph.D., Acting Associate Director for Extramural Activities; NIGMS, NIH, DHHS; 45 Center Drive; Room 2AN24F; Bethesda, MD 20892; 301-594-4499; ebrown1@mail.nih.gov .

Dated: April 16, 2019.
Melanie J. Pantoja,
Program Analyst, Office of Federal Advisory Committee Policy.

[FR Doc. 2019-07968 Filed 4-19-19; 8:45 am]

BILLING CODE 4140-01-P